DEPARTMENT OF COMMERCE

National Oceanic and Atmospheric Administration

[RTID 0648-XB170]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Research Steering Committee (RSC) will hold a series of four workshops to potentially redevelop the research set-aside (RSA) program.

DATES: The first three workshops will be held via webinar on Thursday, July 15, Tuesday, August 31, and Thursday, October 14, 2021, all beginning at 10 a.m. and concluding by 4 p.m. The fourth workshop will be held in-person at a to be determined date and time in the late fall. For agenda details, see SUPPLEMENTARY INFORMATION.

ADDRESSES: The first three workshops will be held via webinar and the final meeting will be an in-person workshop in the late fall. Details on the agenda, webinar listen-in access, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council; phone: (302) 526-5255.

SUPPLEMENTARY INFORMATION: The Council is hosting a series of 4 workshops (3 webinars and 1 in-person meeting) to develop recommendations for the possible redevelopment of the RSA program. Each webinar will target a separate topic related to RSA (research, funding, and enforcement). The Scientific and Statistical Committee Economic Working Group will work collaboratively with the Council's RSC to provide economic input specific to each webinar topic, as well as develop meeting reports and briefing materials for the in-person workshop in the fall. During the final in-person workshop, participants will review the recommendations from the first three webinars and develop final recommendations for RSA program redevelopment. Workshop participants will include a core group of individuals who will be invited to attend all four workshops. Staff may solicit additional participants with topic-specific expertise to participate in each workshop. All workshops will be open to the public.

Special Accommodations

The meetings are physically accessible to people with disabilities. Requests for sign language interpretation or other auxiliary aids should be directed to Kathy Collins at the Mid-Atlantic Council Office, (302) 526-5253, at least 5 days prior to the meeting date.

Authority: 16 U.S.C. 1801 et seq.

Dated: June 21, 2021.
Tracey L. Thompson,
Acting Deputy Director, Office of Sustainable Fisheries, National Marine Fisheries Service.

[FR Doc. 2021-13386 Filed 6-23-21; 8:45 am]

BILLING CODE 3510-22-P